ENVIRONMENTAL PROTECTION AGENCY

[EPA-HQ-OAR-2021-0111; FRL-9810-01-OMS]

Information Collection Request Submitted to OMB for Review and Approval; Comment Request; NESHAP for Industrial, Commercial, and Institutional Boilers and Process Heaters (Renewal)

AGENCY: Environmental Protection Agency (EPA).

ACTION: Notice.

SUMMARY: The Environmental Protection Agency (EPA) has submitted an information collection request (ICR), NESHAP for Industrial, Commercial, and Institutional Boilers and Process Heaters (EPA ICR Number 2028.11, OMB Control Number 2060-0551), to the Office of Management and Budget (OMB) for review and approval in accordance with the Paperwork Reduction Act. This is a proposed extension of the ICR, which is currently approved through March 31, 2022. Public comments were previously requested via the Federal Register on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 27, 2022.

ADDRESSES: Submit your comments, referencing Docket ID Number EPA-HQ-OAR-2021-0111, online using https://www.regulations.gov/ (our preferred method), by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is: 202-566-1744. For additional information about EPA's public docket, visit http://www.epa.gov/dockets.

Abstract: The National Emission Standards for Hazardous Air Pollutants (NESHAP) for Industrial, Commercial, and Institutional Boilers and Process Heaters (40 CFR part 63, subpart DDDDD) apply to existing and new industrial, commercial, and institutional boilers and process heaters located at major sources of HAP. In general, all NESHAP standards require initial notifications, performance tests, and periodic reports by the owners/operators of the affected facilities. They are also required to maintain records of any period during which the monitoring system is inoperative. These notifications, reports, and records are essential in determining compliance, and are required of all affected facilities subject to NESHAP.

Form Numbers: 5900-559.

Respondents/affected entities: Existing and new industrial, commercial, and institutional boilers and process heaters located at major sources of HAP.

Respondent's obligation to respond: Mandatory (40 CFR part 63, subpart DDDDD).

Estimated number of respondents: 2,302 (total).

Frequency of response: Initially, semiannually, annually.

Total estimated burden: 410,000 hours (per year). Burden is defined at 5 CFR 1320.3(b).

Total estimated cost: $118,000,000 (per year), which includes $69,900,000 in annualized capital/startup and/or operation & maintenance costs.

Changes in the Estimates: There is an increase in burden from the most-recently approved ICR as currently identified in the OMB Inventory of Approved Burdens. This is due to several considerations. There is growth in portions of this industry (biomass-fired and gas-fired boilers), but decreases in other portions of the industry (coal-fired and liquid-fired boilers) due to shutdowns. The number of existing large solid-fired (coal and biomass) boilers, existing large liquid-fired boilers, existing large Gas 2 boilers, and new large biomass boilers were updated using CEDRI December 2020 data and the data collected during the proposed rule. These changes have resulted in an overall increase in the number of respondents. These changes have also resulted in decreases in the overall capital/startup or operation and maintenance (O&M) costs, as the majority of new sources (gas-fired boilers) have no capital/startup costs. Also, the regulations have not changed over the past three years. An amendment to these regulations was proposed in 2020, but has not been finalized. Changes in burden due to that amendment have not been included in this ICR. One minor error in the calculations for the previously-approved ICR (2028.09) has been corrected. The number of existing and small limited use solid fuel units conducting a biennial tune-up has been adjusted to account for the correct number of average annual respondents expected.

Courtney Kerwin,
Director, Regulatory Support Division.

[FR Doc. 2022-09007 Filed 4-26-22; 8:45 am]

BILLING CODE 6560-50-P